DEPARTMENT OF COMMERCE

National Oceanic and Atmospheric Administration

Availability of Draft Guidance for Coastal Impact Assistance Program

AGENCY: National Oceanic and Atmospheric Administration, U.S. Department of Commerce.

ACTION: Notice of availability of draft guidance for Coastal Impact Assistance Program

SUMMARY: Notice is hereby given of the availability of Draft Guidance for the Coastal Impact Assistance Program (CIAP). The fiscal year 2001 appropriations for the Departments of Commerce, Justice and State created the CIAP.

The CIAP will direct approximately $145 million to the outer continental shelf oil and gas producing states of Alaska, Alabama, California, Florida, Louisiana, Mississippi and Texas and the approximately 150 coastal political subdivisions within those states to help mitigate the impacts of OCS activities and protect coastal resources. The CIAP requires these states to submit Coastal Impact Assistance Plans detailing how the funds will be expended. This guidance provides the information necessary for eligible states and coastal political subdivisions to develop CIAP plans and submit them to the National Oceanic and Atmospheric Administration (NOAA) by July 1, 2001.

Copies of the Draft Guidance for the Coastal Impact Assistance Program can be found on the NOAA website at http://www.ocrm.nos.noaa.gov/cpd/welcome/html or may be obtained upon request from: Joseph P. Flanagan, Coastal Programs Division (N/ORM3), Office of Ocean and Coastal Resource Management, NOS, NOAA, 1305 East-West Highway, Silver Spring, Maryland, 20910, tel. 301-713-3155, extension 201, e-mail joseph.flanagan@noaa.gov.

FOR FURTHER INFORMATION CONTACT: John King, Acting Chief, Coastal Program Division (N/ORM3), Office of Ocean and Coastal Resource Management, NOS, NOAA, 1305 East-West Highway, Silver Spring, Maryland, 20910, tel. 301-713-3155, extension 188, e-mail john.king@noaa.gov.

(Federal Domestic Assistance Catalog 11.419 Coastal Zone Management Program Administration)
Dated: March 22, 2001.
Margaret A. Davidson,
Acting Assistant Administrator for Ocean Services and Coastal Zone Management, National Oceanic and Atmospheric Administration, Department of Commerce.

[FR Doc. 01-7725 Filed 3-28-01; 8:45 am]

BILLING CODE 3510-08-M